DEPARTMENT OF TRANSPORTATION

Federal Aviation Administration

Notice of Release From Federal Grant Assurance Obligations and Land Exchange San Bernardino International Airport, San Bernardino, San Bernardino County, California

AGENCY: Federal Aviation Administration, DOT.

ACTION: Notice of request to release airport land.

SUMMARY: The Federal Aviation Administration (FAA) is considering a proposal and invites public comment on the application for release of 10.306 acres of airport property from federal Grant Assurance obligations and land exchange at San Bernardino International Airport, San Bernardino, California. San Bernardino International Airport Authority (SBIAA) is requesting a total release from federal obligations on 10.306 acres of SBIAA property, and to authorize an acre-for-acre land exchange between SBIAA and the San Manuel Band of Mission Indians (SMBMI). The property is located approximately 600-feet south of E 3rd Street, north of W St., and approximately 300-feet east of Victoria Street and west of U St.

DATES: Comments must be received on or before January 6, 2022.

ADDRESSES: Comments on the request may be mailed or delivered to the FAA at the following address: Ms. Cathryn Cason, Manager, Los Angeles Airports District Office, Federal Aviation Administration, 777 South Aviation Boulevard, Suite 150, El Segundo, California 90245. In addition, one copy of the comment submitted to the FAA must be mailed or delivered to Mr. Mark Gibbs, Director of Aviation, San Bernardino International Airport Authority, 1601 East 3rd Street, San Bernardino, CA 92408.

SUPPLEMENTARY INFORMATION: The former Norton Air Force Base property was conveyed to SBIAA by the United States Air Force (USAF) in accordance with the Airport Quit Claim Deed as a public benefit transfer pursuant to the sponsorship of the FAA a public use airport. SBIAA assumed the operational responsibility of the Airport on October 15, 1993, and received a lease from the USAF in January 1994. The Airport Quit Claim Deed encompasses the majority of the Airport properties and was delivered to SBIAA on February 12, 1999. The 10.306-acres of subject land identified is not currently required for aeronautical purposes. SBIAA is intending to exchange this property with the San Manuel Band of Mission Indians (SMBMI) on a 10.306-acre-for-acre land exchange. Such use of the land represents a compatible land use that will not interfere with the airport or its operation, thereby protecting the interests of civil aviation. The resulting actions would provide the Airport with ownership control over the primary access road to its general aviation and air cargo areas (Victoria Avenue). SBIAA needs to ensure that the ownership control of this primary access road cannot be compromised.

In accordance with the Wendell H. Ford Aviation Investment and Reform Act for the 21st Century (AIR 21), Public Law 106-181 (Apr. 5, 2000; 114 stat. 61), this notice must be published in the Federal Register 30 days before the DOT Secretary may waive any condition imposed on a federally obligated airport by surplus property conveyance deeds or grant agreements.

Issued in El Segundo, California on December 2, 2021.
Brian Q. Armstrong,
Manager, Safety and Standards Branch, Airports Division, Western-Pacific Region.

[FR Doc. 2021-26488 Filed 12-6-21; 8:45 am]

BILLING CODE 4910-13-P